DEPARTMENT OF HEALTH AND HUMAN SERVICES

National Institutes of Health

Office of Biotechnology Activities, Office of Science Policy, Office of the Director; Notice of Meeting

Pursuant to section 10(a) of the Federal Advisory Committee Act, as amended (5 U.S.C. App.), notice is hereby given of the meeting of the National Science Advisory Board for Biosecurity (NSABB).

Name of Committee: National Science Advisory Board for Biosecurity.

Date: February 10, 2011.

Time: 8:30 a.m. to 4 p.m. Eastern Daylight Time (Times are approximate and subject to change).

Agenda: Presentations and discussions regarding: (1) Update on NSABB Working Group activities on Codes of Conduct; Culture of Responsibility; International Engagement; Journal Review Policies; and Outreach and Education activities, including as well as possible Board review/approval of Working Group reports; (2) planning for future NSABB meetings and activities; and (3) other business of the Board.

Place: National Institutes of Health, Building 31, Center Drive, 6th Floor, Conference Room 6, Bethesda, Maryland 20892.

Contact Person: Ronna Hill, NSABB Program Assistant NIH Office of Biotechnology Activities, 6705 Rockledge Drive, Suite 750, Bethesda, Maryland 20892, (301) 496-9838, hillro@od.nih.gov.

Under the authority of 42 U.S.C. 217a, Section 222 of the Public Health Service Act, as amended, the Department of Health and Human Services established the NSABB to provide advice, guidance and leadership regarding federal oversight of dual use research, defined as biological research that generates information and technologies that could be misused to pose a biological threat to public health and/or national security.

The meeting will be open to the public, however pre-registration is strongly recommended due to space limitations. Persons planning to attend should register online at: http://oba.od.nih.gov/biosecurity/biosecurity_meetings.html or by calling Palladian Partners, Inc. (Contact: Joel Yaccarino at 301-650-8660). Individuals who plan to attend and need special assistance, such as sign language interpretation or other reasonable accommodations, please contact the person listed under Contact Person at least 10 days in advance of the meeting, to allow NIH as much time as possible to process your request.

This meeting will also be webcast. To access the webcast, as well as the draft meeting agenda and pre-registration information, connect to: http://oba.od.nih.gov/biosecurity/biosecurity_meetings.html. Please check this site for updates or contact the person listed under Contact Person.

Any member of the public interested in presenting oral comments relevant to the mission of the NSABB at the meeting may notify the Contact Person listed on this notice at least 10 days in advance of the meeting. Interested individuals and representatives of an organization should submit, their name, professional title, name of the organization represented, and the topic of their oral comments. Only one representative of an organization will be permitted to present oral comments. Presenters should submit to OBA both printed and electronic copies of their comments. In addition, any interested person may file written comments relevant to the mission of the NSABB. In order to be distributed to Board members in advance of the meeting, written comments must be received at least 10 days in advance of the meeting and should be sent via e-mail to nsabb@od.nih.gov with “NSABB Public Comment” as the subject line or by regular mail to the person listed on this Federal Register notice.

Dated: January 14, 2011.
Jennifer S. Spaeth,
Director, Office of Federal Advisory Committee Policy.

[FR Doc. 2011-1244 Filed 1-20-11; 8:45 am]

BILLING CODE 4140-01-P